OFFICE OF THE UNITED STATES TRADE REPRESENTATIVE

Notice With Respect to List of Countries Denying Fair Market Opportunities for Government-Funded Airport Construction Projects

AGENCY: Office of the United States Trade Representative.

ACTION: Notice.

SUMMARY: Pursuant to section 533 of the Airport and Airway Improvement Act of 1982, as amended (49 U.S.C. 50104), the United States Trade Representative (USTR) has determined not to list any countries as denying fair market opportunities for U.S. products, suppliers, or bidders in foreign government-funded airport construction projects.

DATES: Effective Date: April 30, 2014.

FOR FURTHER INFORMATION CONTACT: Scott Pietan, International Procurement Negotiator, Office of the United States Trade Representative, (202) 395-9646, or Arthur Tsao, Assistant General Counsel, Office of the United States Trade Representative, (202) 395-6987.

SUPPLEMENTARY INFORMATION: Section 533 of the Airport and Airway Improvement Act of 1982, as amended by section 115 of the Airport and Airway Safety and Capacity Expansion Act of 1987, Public Law 100-223 (codified at 49 U.S.C. 50104) (“the Act”), requires the USTR to decide whether any foreign country has denied fair market opportunities to U.S. products, suppliers, or bidders in connection with airport construction projects of $500,000 or more that are funded in whole or in part by the government of such country. The list of such countries must be published in the Federal Register. The Office of the U.S. Trade Representative has not received any complaints or other information that indicates that U.S. products, suppliers, or bidders are being denied fair market opportunities in such airport construction projects. As a consequence, for purposes of the Act, the USTR has decided not to list any countries as denying fair market opportunities for U.S. products, suppliers, or bidders in foreign government-funded airport construction projects.

Michael B.G. Froman,
United States Trade Representative.

[FR Doc. 2014-09775 Filed 4-29-14; 8:45 am]

BILLING CODE 3290-F4-P